DEPARTMENT OF TRANSPORTATION

Federal Aviation Administration

14 CFR Part 39

[Docket No. 2000-SW-03-AD; Amendment 39-11893; AD 2000-18-08]

RIN 2120-AA64

Airworthiness Directives; MD Helicopters, Inc. Model MD-900 Helicopters

AGENCY: Federal Aviation Administration, DOT.

ACTION: Final rule.

SUMMARY: This amendment adopts a new airworthiness directive

(AD) for MD Helicopters, Inc. (MDHI) Model MD-900 helicopters that requires modifying the non-rotating swashplate assembly and re-identifying it and the swashplate assembly with new part numbers. This AD also requires creating a component history card or equivalent record to track the life of the newly identified non-rotating swashplate assembly and establishing a life limit of 1800 hours time-in-service (TIS). Additionally, this AD requires inspecting and modifying, if necessary, the longitudinal drive link assembly. This AD is prompted by reports of damage to the longitudinal drive link assembly caused by the sharp inner edge of the bushing in the non-rotating swashplate assembly. The actions specified by this AD are intended to prevent damage to the longitudinal drive link, loss of control of the main rotor system, and subsequent loss of control of the helicopter.

DATES: Effective October 19, 2000.

The incorporation by reference of certain publications listed in the regulations is approved by the Director of the Federal Register as of October 19, 2000.

ADDRESSES: The service information referenced in this AD may be obtained from MD Helicopters Inc., Attn: Customer Support Division, 4555 E. McDowell Rd., Mail Stop M615-GO48, Mesa, Arizona 85215-9734, telephone 1-800-388-3378, fax 480-891-6782, or on the web at www.mdhelicopters.com. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: Greg DiLibero, Aviation Safety Engineer, FAA, Los Angeles Aircraft Certification Office, Airframe Branch, 3960 Paramount Blvd., Lakewood, California 90712, telephone (562) 627-5231, fax (562) 627-5210.

SUPPLEMENTARY INFORMATION: A proposal to amend part 39 of the Federal Aviation Regulations (14 CFR part 39) to include an AD for MDHI Model MD-900 helicopters was published in the Federal Register on June 6, 2000 (65 FR 35869). That action proposed to require modifying the non-rotating swashplate and re-identifying it and the swashplate assembly with new part numbers. Also proposed were creating or modifying the existing component history card or equivalent record to track the life of the newly identified non-rotating swashplate assembly and establishing a life limit of 1800 hours TIS. In addition, that action proposed inspecting and modifying, if necessary, the longitudinal drive link assembly.

Interested persons have been afforded an opportunity to participate in the making of this amendment. No comments were received on the proposal or the FAA's determination of the cost to the public. The FAA has determined that air safety and the public interest require the adoption of the rule as proposed.

The FAA estimates that 28 helicopters of U.S. registry will be affected by this AD, that it will take approximately 2 work hours per helicopter to accomplish the required actions, and that the average labor rate is $60 per work hour. Required parts will cost approximately $1164 per helicopter. Based on these figures, the total cost impact of the AD on U.S. operators is estimated to be $35,952.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2000-18-08 MD Helicopters Inc.: Amendment 39-11893. Docket No. 2000-SW-03-AD.

Applicability: Model MD-900 helicopters, serial numbers 0008 through 0068, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (c) of this AD. The request should include an assessment of the effect of the modification, alteration, or repair on the unsafe condition addressed by this AD; and if the unsafe condition has not been eliminated, the request should include specific proposed actions to address it.

Compliance: Required as indicated, unless accomplished previously.

To prevent damage to the longitudinal drive link, loss of control of the main rotor system, and subsequent loss of control of the helicopter, accomplish the following:

(a) Within the next 100 hours time-in-service (TIS) or 3 months, whichever occurs first:

(1) Modify the non-rotating swashplate assembly, part number (P/N) 900C2010192-111, in accordance with the Accomplishment Instructions, paragraphs 2.A.(1). and 2.A.(2)., of MD Helicopters (MDHI) Service Bulletin SB900-071, dated January 10, 2000 (SB).

(2) Re-identify the swashplate assembly, P/N 900C1010004-125, as P/N 900C1010004-127, and the non-rotating swashplate assembly, P/N 900C2010192-111, as P/N 900C2010192-113 using contrasting color permanent ink. When the ink is dry, apply varnish over the P/N.

(3) Create or modify the existing component history card or equivalent record to track the life of the non-rotating swashplate assembly, P/N 900C2010192-113. Include the hours TIS accumulated when P/N 900C2010192-113 was identified as P/N 900C2010192-111.

(4) Visually and dye-penetrant inspect the longitudinal drive link assembly, P/N 900C2010212-101, for gouging and cracking in accordance with the Accomplishment Instructions, paragraph 2.B.(1). and 2.B.(2). of the SB except that returning scrap parts to MDHI is not required by this AD.

(i) If a crack is found, before further flight, replace the longitudinal drive link assembly, P/N 900C2010212-101, with an airworthy longitudinal drive link assembly.

(ii) If gouging is found, modify the longitudinal drive link assembly, P/N 900C2010212-101, in accordance with the Accomplishment Instructions, paragraph 2.B.(3). of the SB.

(b) This AD revises the Airworthiness Limitations

Section of the applicable maintenance manual by establishing a retirement life of 1800 hours TIS for the non-rotating swashplate assembly, P/N 900C2010192-113.

(c) An alternative method of compliance or adjustment of the compliance time that provides an acceptable level of safety may be used if approved by the Manager, Los Angeles Aircraft Certification Office. Operators shall submit their requests through an FAA Principal Maintenance Inspector, who may concur or comment and then send it to the Manager, Los Angeles Aircraft Certification Office.

Note 2: Information concerning the existence of approved alternative methods of compliance with this AD, if any, may be obtained from the Los Angeles Aircraft Certification Office.

(d) Special flight permits may be issued in accordance with §§ 21.197 and 21.199 of the Federal Aviation Regulations (14 CFR 21.197 and 21.199) to operate the helicopter to a location where the requirements of this AD can be accomplished.

(e) The modifications and inspections shall be done in accordance with the Accomplishment Instructions, paragraphs 2.A.(1) and 2.A.(2); 2.B.(1), and 2.B.(2), and 2.B.(3) of MD Helicopters Service Bulletin SB900-071, dated January 10, 2000. This incorporation by reference was approved by the Director of the Federal Register in accordance with 5 U.S.C. 552(a) and 1 CFR part 51. Copies may be obtained from MD Helicopters Inc., Attn: Customer Support Division, 4555 E. McDowell Rd., Mail Stop M615-GO48, Mesa, Arizona 85215-9734, telephone 1-800-388-3378, fax 480-891-6782, or on the web at www.mdhelicopters.com. Copies may be inspected at the FAA, Office of the Regional Counsel, Southwest Region, 2601 Meacham Blvd., Room 663, Fort Worth, Texas; or at the Office of the Federal Register, 800 North Capitol Street, NW., suite 700, Washington, DC.

(f) This amendment becomes effective on October 19, 2000.

Issued in Fort Worth, Texas, on September 1, 2000.
Henry A. Armstrong,
Manager, Rotorcraft Directorate, Aircraft Certification Service.

[FR Doc. 00-23206 Filed 9-13-00; 8:45 am]

BILLING CODE 4910-13-P